DEPARTMENT OF EDUCATION

Public Comment on Setting Achievement Levels in Writing

AGENCY: U.S. Department of Education, National Assessment Governing Board.

ACTION: Notice, Public Comment on Setting Achievement Levels in Writing.

SUMMARY: The National Assessment Governing Board (Governing Board) is soliciting public comments and recommendations to improve the design proposed for setting achievement levels for NAEP in writing. This notice provides opportunity for public comment and submitting recommendations for improving the design proposed for setting achievement levels for the 2011 National Assessment of Educational Progress (NAEP) in Writing.

The proposed Design Document, available at http://www.wested.org/cs/naep/print/docs/naep/welcome.html, describes the process that will produce cutscores to represent the lower boundary of each of three NAEP achievement levels: Basic, Proficient, and Advanced. The Governing Board has contracted with WestEd to assist in gathering feedback on the design document. Additional information on the Governing Board's work and NAEP achievement levels can be found at http://www.nagb.org

Public and private individuals and organizations are invited to provide written comments and recommendations. Voluntary participation by all interested parties is urged. This notice sets forth the review schedule, identifies the kinds of information that the Governing Board is seeking to obtain regarding the Design Document, and provides information for accessing additional materials that will be useful for this review. This document is intended to notify members of the general public of their opportunity to provide comments and/or make recommendations.

Background

Under Public Law 107-279, the Governing Board is authorized to formulate policy guidelines for NAEP. The legislation specifies that the Governing Board is to develop appropriate student achievement levels for each subject and grade tested, as provided in section 303(e). Achievement levels are determined by identifying the knowledge that can be measured and verified objectively using widely accepted professional assessment standards. Achievement levels are to be consistent with relevant widely accepted professional assessment standards, and based on the appropriate level of subject matter knowledge for grade levels to be assessed, or on the age of the students

In preparation for setting achievement levels for the new assessment of writing at grades 4, 8, and 12, the Governing Board seeks comment on the draft Design Document intended to guide this process. This is the first wholly computer-based NAEP, and the design calls for this to be the first computerized NAEP achievement levels-setting process. Comments are invited, particularly on the computerization of the achievement levels setting process. All responses received will be taken into consideration before finalizing the Design Document.

Materials for Review and Comment

Policymakers, teachers, researchers, State and local writing specialists, members of professional writing and teacher organizations, and members of the public are invited to provide feedback. Comments will provide valuable feedback that is designed to improve the first computerized achievement levels setting process.

To assist with the review and comment, the following materials are posted at http://www.wested.org/cs/naep/print/docs/naep/welcome.html.

(1) Design Document: The draft Design Document presents a preliminary design approach to guide all aspects of the process.

(2) Focus Questions: Focus questions related to certain aspects of the Design Document are provided as potential areas of interest for your feedback. While all comments and recommendations are appreciated, specific issues that you might wish to address include the following:

1. The objective of this study is to set achievement levels for the 2011 and 2013 NAEP writing assessments. Does the study design as presented in the Design Document seem reasonable for accomplishing this overall objective?

2. What improvements can be made to the design to more fully accomplish the objectives of this study?

3. The proposed design calls for the computerization of many aspects of the study. Are there aspects of this computerization that will be particularly effective or ineffective in meeting the objective of this study?

4. Is the field trial as described a reasonable method for testing the logistics of the computerized methodology?

5. Is the special study as described a reasonable method for comparing performance relative to the achievement levels on the 2007 writing NAEP assessment with performance relative to the achievement levels for the new writing NAEP assessment?

Timeline

It is anticipated that the finalized Design Document will be presented for approval to the Governing Board on March 4, 2011. Comments must be received by February 22, 2011, and sent to:

WestEd, 730 Harrison Street, San Francisco, CA 94107, Attention: Jennae Bulat: Public Comment, Fax: (415) 615-3200, E-mail: jbulat@wested.org.

FOR FURTHER INFORMATION CONTACT: Jennae Bulat, WestEd, 730 Harrison Street, San Francisco, CA 94107, Telephone: (415) 615-3260, FAX: (415) 615-3200, E-mail: JBulat@Wested.org.

Electronic Access to This Document: You may view this document, as well as all other documents of this Department published in the Federal Register, in text or Adobe Portable Document Format (PDF) on the Internet at the following site: http://www.ed.gov/news/fedregister/index.html. To use PDF you must have Adobe Acrobat Reader, which is available free at this site. If you have questions about using PDF, call the U.S. Government Printing Office (GPO), toll free at 1-866-512-0000; or in the Washington, DC area at (202) 512-1800.

Note: The official version of this document is the document published in the Federal Register. Free Internet access to the official edition of the Federal Register and the Code of Federal Regulations is available on GPO Access at: http://www.gpoaccess.gov/nara/index.html.

Dated: February 10, 2011.
Munira Mwalimu,
Operations Officer, National Assessment Governing Board, U.S. Department of Education.

[FR Doc. 2011-3438 Filed 2-15-11; 8:45 am]

BILLING CODE 4000-01-P